OCCUPATIONAL SAFETY AND HEALTH REVIEW COMMISSION

Sunshine Act Meeting

Time and Date: 10:30 a.m. on Tuesday, November 2, 2010.

Place: The Commission's National Office at One Lafayette Centre, 1120 20th Street, NW., 9th Floor, Washington, DC 20036-3457.

Status: This oral argument will be open to the public.

Matters To Be Considered: The Commission will be hearing oral argument in the case of Secretary of Labor v. AKM LLC d/b/a Volks Constructors, Docket No. 06-1990.

Contact Person For More Information: John X. Cerveny, Deputy Executive Secretary, (202) 606-5400.

John X. Cerveny,
Deputy Executive Secretary.

[FR Doc. 2010-27077 Filed 10-21-10; 4:15 pm]

BILLING CODE 7600-01-P